DEPARTMENT OF HEALTH AND HUMAN SERVICES

National Institutes of Health

National Cancer Institute; Amended Notice of Meeting

Notice is hereby given of a change in the meeting of the National Cancer Institute Special Emphasis Panel, March 20, 2014, 07:00 p.m. to March 21, 2014, 04:00 p.m., Courtyard Marriott Washingtonian Center, 204 Boardwalk Place, Gaithersburg, MD 20878 which was published in the Federal Register on February 07, 2014, 79FR7466.

The meeting notice is amended to change the location and time to 9609 Medical Center Drive, Room 5E30, Rockville, MD 20850, March 20, 2014, 10:00 a.m. to March 21, 2014, 3:30 p.m. Additionally the meeting is being held as a teleconference. The meeting is closed to the public.

Dated: February 12, 2014.
Melanie J. Gray,
Program Analyst, Office of Federal Advisory Committee Policy.

[FR Doc. 2014-03399 Filed 2-14-14; 8:45 am]

BILLING CODE 4140-01-P